DEPARTMENT OF THE INTERIOR

National Park Service

[NPS-WASO-NAGPRA-NPS0038464; PPWOCRADN0-PCU00RP14.R50000]

Notice of Intended Repatriation: U.S. Army Corps of Engineers, Omaha District, Omaha, NE, and University of Tennessee, Knoxville, Department of Anthropology, Knoxville, TN

AGENCY: National Park Service, Interior.

ACTION: Notice.

SUMMARY: In accordance with the Native American Graves Protection and Repatriation Act (NAGPRA), the U.S. Army Corps of Engineers, Omaha District, and the University of Tennessee, Knoxville intends to repatriate certain cultural items that meet the definition of unassociated funerary objects and that have a cultural affiliation with the Indian Tribes or Native Hawaiian organizations in this notice.

DATES: Repatriation of the cultural items in this notice may occur on or after September 11, 2024.

ADDRESSES: Ms. Livia Taylor, U.S. Army Corps of Engineers, Omaha District, ATTN: CENWO-PMA-C, 1616 Capitol Avenue, Omaha, NE 68102, telephone (402) 995-2434, email livia.a.taylor@usace.army.mil and Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of the U.S. Army Corps of Engineers, Omaha District, and additional information on the determinations in this notice, including the results of consultation, can be found in the summary or related records. The National Park Service is not responsible for the determinations in this notice.

Abstract of Information Available

North Dakota

A total of 53 cultural items have been requested for repatriation. The 53 unassociated funerary objects are one dentalium shell, one charcoal fragment, and 51 faunal remains. The unassociated funerary objects were removed from the Boundary Mounds site (32SI1) in Sioux County, ND in 1960 by Robert W. Neuman as part of a Smithsonian River Basin Survey project. The unassociated funerary objects were then sent by the State Historical Society of North Dakota to William Bass. It is likely this occurred while Bass was at the University of Kansas and he later brought the unassociated funerary objects with him to University of Tennessee, Knoxville. The Boundary Mounds site is a Middle Woodland site with four burial mounds that has been identified as a Sonota Complex site dating between A.D. 1-600.

South Dakota

A total of one cultural item has been requested for repatriation. The one unassociated funerary object is a faunal remain. The unassociated funerary object was removed from the Pasco site (39AR8) in Armstrong County, SD. Little information on this site exists, but it is likely the object was removed during investigations in the 1950s. Site 39AR8 has been identified as an Extended Middle Missouri site (A.D. 1150-1550).

A total of eight cultural items have been requested for repatriation. The eight unassociated funerary objects are faunal remains. The unassociated funerary objects were removed from the McKensey Village site (39AR201) in Armstrong County, SD. The objects were likely removed in during excavations in 1960 that were directed by Warren. W. Caldwell. Site 39AR201 has been identified as an Extended Middle Missouri site (A.D. 1150-1550).

A total of 127 cultural items have been requested for repatriation. The 127 unassociated funerary objects are faunal remains. The unassociated funerary objects were removed from the Potts Village site (39CO19) in Corson County, SD. The objects were likely removed in the late 1980s and subsequently stored at South Dakota's State Archaeological Research Center (SARC). In 1988, these objects were transferred by SARC to UTK and were retained by UTK. The site is a fortified earthlodge village dating to the Extended Coalescent Period (A.D. 1550-1675).

A total of 67 cultural items have been requested for repatriation. The 67 unassociated funerary objects are faunal remains. The unassociated funerary objects were removed from the Swift Bird Mounds site (39DW233). The site was first investigated in 1952 as part of the Smithsonian Institution River Basin Surveys and was later excavated between 1960-1962. The site consists of two burial mounds and an earthlodge village with several temporal components including Woodland (1500 B.C.-A.D. 900) and Extended Middle Missouri (A.D. 900-1700).

A total of two cultural items have been requested for repatriation. The two unassociated funerary objects are faunal remains. The unassociated funerary objects were removed from the Bleached Bone site (39HU48) in Hughes County, SD. Investigations at the site occurred in 1931 when Alfred Bowers removed eleven burials from a previously looted mound at 39HU48 and in 1962 by the Missouri River Basin Project (MRBP) in 1962, during which field crew 10, directed by William Bass, removed an additional 13 burials. The site included stone circles, mounds, and other configurations. Woodland Period (500 B.C.-A.D. 1000) pottery was reportedly found during the 1962 season. In addition, the presence of a metallic projectile point suggested possible occupation during the Historic Period.

A total of one cultural item has been requested for repatriation. The one unassociated funerary object is a faunal remain. The unassociated funerary object was removed from the Hickey Brothers site (39LM4) in Lyman County, SD. The object was likely removed during 1958 excavations directed by Bernard Golden and crews from the Smithsonian Institution's River Basin Surveys. The site was fortified with evidence of an earthlodge and has been identified as a possible Extended Middle Missouri site (A.D. 1150-1550).

A total of two cultural items have been requested for repatriation. The two unassociated funerary objects are faunal remains. The unassociated funerary objects were removed from the C.B. Smith site (39SL29) in Sully County, SD. The site was excavated in 1957 by Charles H. McNutt and crews from the Smithsonian Institution's River Basin Surveys. The site was a large earthlodge village that has been identified as being occupied during the Extended Middle Missouri (A.D. 1150-1550).

A total of 49 cultural items have been requested for repatriation. The 49 unassociated funerary objects are faunal remains. The unassociated funerary objects were removed from the Zimmerman site (39SL41) in Sully County, SD. The site was excavated in 1958 by Charles H. McNutt and crews from the Smithsonian Institution's River Basin Surveys. The site had several long, rectangular houses and has been identified as an Extended Middle Missouri site (A.D. 1150-1550).

A total of 72 cultural items have been requested for repatriation. The 72 unassociated funerary objects are faunal remains. The unassociated funerary objects were removed from the Larson site (39WW2). This site was investigated several times throughout the 1960s and it is unknown at what time the objects were removed from the site. The site was a fortified village site that has been identified as being occupied in the Post-Contact Coalescent period (A.D. 1675-1780).

A total of 12 cultural items have been requested for repatriation. The 12 unassociated funerary objects are five lithics and seven faunal remains. The unassociated funerary objects were removed from the Walth Bay site (39WW203) in Walworth County, SD. The site was excavated between 1970 and 1972 with W. Raymond Wood as the Principal Investigator. The site has been dated to the Extended Coalescent period (A.D. 1350-1620).

No known hazardous substances were used to treat any of the cultural items described in this notice.

Determinations

The U.S. Army Corps of Engineers, Omaha District has determined that:

• The 394 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Three Affiliated Tribes of the Fort Berthold Reservation, North Dakota.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 11, 2024. If competing requests for repatriation are received, the U.S. Army Corps of Engineers, Omaha District must determine the most appropriate requestor prior to repatriation. Requests for joint repatriation of the cultural items are considered a single request and not competing requests. The U.S. Army Corps of Engineers, Omaha District is responsible for sending a copy of this notice to the Indian Tribes and Native Hawaiian organizations identified in this notice and to any other consulting parties.

Authority: Native American Graves Protection and Repatriation Act, 25 U.S.C. 3004 and the implementing regulations, 43 CFR 10.9.

Dated: August 1, 2024.
Melanie O'Brien,
Manager, National NAGPRA Program.

[FR Doc. 2024-17877 Filed 8-9-24; 8:45 am]

BILLING CODE 4312-52-P